DEPARTMENT OF COMMERCE

International Trade Administration

[A-533-808]

Stainless Steel Wire Rods From India: Extension of Time Limit for the Final Results of the Antidumping Duty Administrative Review

AGENCY: Import Administration, International Trade Administration, Department of Commerce.

ACTION: Notice of extension of time limit for the final results of antidumping duty administrative review.

EFFECTIVE DATE: April 6, 2004.

SUMMARY: The Department of Commerce (“the Department”) is extending the time limit for the final results of the review of stainless steel wire rods from India. This review covers the period December 1, 2001 through November 30, 2002.

FOR FURTHER INFORMATION CONTACT: Eugene Degnan, Jonathan Herzog, or Kit Rudd, AD/CVD Enforcement, Group III, Office 9, Import Administration, International Trade Administration, U.S. Department of Commerce, 14th Street and Constitution Avenue, NW., Washington DC 20230; telephone: (202) 482-0414, (202) 482-4271 and (202) 482-1385 respectively.

Background

On January 22, 2003, the Department published a notice of initiation of an antidumping duty administrative review of stainless steel wire rods (“SSWR”) from India covering the period December 1, 2001 through November 30, 2002. See Initiation of Antidumping and Countervailing Duty Administrative Reviews and Request for Revocation in Part, 68 FR 3009 (January 22, 2003). On August 5, 2003, the Department published a notice extending the time limit for the preliminary results by 60 days to December 1, 2003. See Stainless Steel Wire Rods from India: Notice of Extension of Time Limit for the Preliminary Results of Antidumping Duty Administrative Review, 68 FR 46164 (August 5, 2003). On November 21, 2003, the Department published a notice extending the time limit for the preliminary results by 11 days to December 12, 2003. See Stainless Steel Wire Rods from India: Notice of Extension of Time Limit for the Preliminary Results of Antidumping Duty Administrative Review, 68 FR 65680 (November 21, 2003). On December 19, 2003, the Department published the preliminary determination in this administrative review. See Stainless Steel Wire Rods from India: Preliminary Results and Partial Rescission of Antidumping Duty Administrative Review, 68 FR 70765 (December 19, 2003).

Extension of Time Limit of Final Results

Section 751(a)(3)(A) of the Tariff Act of 1930, as amended (“the Act”), requires the Department to issue the final results of an antidumping duty review within 120 days of the date on which the preliminary results are published. However, if the Department concludes that it is not practicable to issue the results by the original deadline, it may extend the 120-day period to 180 days. Completion of the final results of this review within the 120-day period is not practicable because information critical to the review has recently been brought to the attention of the Department. As a result, the official record of the review is being reopened so this information can be entered into the record. Additionally, allowance of sufficient time for parties to submit comments and rebuttals on the augmented official record makes issuance of the final results of the review within the 120-day period impracticable.

Therefore, we are extending the time period for issuing the final results of the review by 30 days until May 17, 2004. This notice is issued and published in accordance with section 751(a)(3)(A) of the Act, and section 351.213(h)(2) of the Department's regulations.

Barbara E. Tillman,
Acting Deputy Assistant Secretary for Import Administration, Group III.

[FR Doc. 04-7805 Filed 4-5-04; 8:45 am]

BILLING CODE 3510-DS-P